DEPARTMENT OF HOUSING AND URBAN DEVELOPMENT

[Docket No. FR-4900-C-02A]

Notice of HUD's Fiscal Year (FY) 2004, Notice of Funding Availability (NOFA), Policy Requirements and General Section to FY2004 SuperNOFA for HUD's Discretionary Grant Programs; Correction

AGENCY: Office of the Secretary, HUD.

ACTION: Super Notice of Funding Availability (SuperNOFA) for HUD Discretionary Grant Programs; correction.

SUMMARY: On May 14, 2004, HUD published its Fiscal Year (FY) 2004, Notice of Funding Availability (NOFA), Policy Requirements and General Section to the SuperNOFA for HUD's Discretionary Grant Programs. On May 28, 2004, HUD published a technical correction for two of the programs included in the SuperNOFA. This document makes further corrections to the Alaska Native/Native Hawaiian Institutions Assisting Communities Program (AN/NHIAC); the Fair Housing Initiatives Program (FHIP); the Fair Housing Initiatives Programs, Education and Outreach Initiative—Partnership with Historically Black Colleges and Universities (FHIP-HBCU) Program; the Housing Counseling Program; the Self-Help Homeownership Opportunity Program (SHOP); the Public Housing Neighborhood Networks Program, the Public Housing Resident Opportunities and Self-Sufficiency (ROSS) Program; the Public Housing Family Self-Sufficiency Program, the Continuum of Care Homeless Assistance Program; the Service Coordinators Program, the Section 202 Supportive Housing for the Elderly Program (Section 202 Program); and the Section 811 Supportive Housing for Persons with Disabilities Program (Section 811 Program).

This notice also extends the application due dates for the Public Housing Neighborhood Networks Program, the Public Housing Resident Opportunities and Self-Sufficiency (ROSS) Program; the Section 202 Program and the Section 811 Program.

DATES: The application due dates for the following program sections of the SuperNOFA are extended as follows:

Public Housing Neighborhood Networks Program, August 17, 2004;

Public Housing Resident Opportunities and Self-Sufficiency (ROSS) Program, Resident Service Deliver Models-Elder/Persons with Disabilities, August 3, 2004;

Public Housing Resident Opportunities and Self-Sufficiency (ROSS) Program, Resident Service Delivery Models-Family, August 24, 2004;

Section 202 Program July 22, 2004;

Section 811 Program July 22, 2004.

Application due dates for the all other program sections of the SuperNOFA remain as published in the Federal Register on May 14, 2004.

FOR FURTHER INFORMATION CONTACT: For the programs listed in this notice, please contact the office or individual listed under the “For Further Information” heading in the individual program sections of the SuperNOFA, published on May 14, 2004.

SUPPLEMENTARY INFORMATION: On May 14, 2004 (69 FR 26941), HUD published its Notice of HUD's Fiscal Year (FY) 2004, Notice of Funding Availability (NOFA), Policy Requirements and General Section to the SuperNOFA for HUD's Discretionary Grant Programs. The FY2004 SuperNOFA announced the availability of approximately $2.3 billion in HUD assistance. On May 28, 2004 (64 FR 30697), HUD published a technical correction for the Housing Choice Voucher Family Self-Sufficiency Program Coordinators program section of the SuperNOFA and the Housing Opportunities for Persons with AIDS program sections of the SuperNOFA. This notice published in today's Federal Register makes technical corrections to the Alaska Native/Native Hawaiian Institutions Assisting Communities Program (AN/NHIAC); the Fair Housing Initiatives Program (FHIP); the Fair Housing Initiatives Programs, Education and Outreach Initiative—Partnership with Historically Black Colleges and Universities (FHIP-HBCU) Program; the Housing Counseling Program; the Self-Help Homeownership Opportunity Program (SHOP); the Public Housing Neighborhood Networks Program, the Public Housing Resident Opportunities and Self-Sufficiency (ROSS) Program; the Public Housing Family Self-Sufficiency Program; the Continuum of Care Homeless Assistance Program; the Service Coordinators Program, the Section 202 Supportive Housing for the Elderly Program (Section 202 Program); and the Section 811 Supportive Housing for Persons with Disabilities Program (Section 811 Program).

Summary of Technical Corrections

Summaries of the technical corrections made by this document follow. The page number shown in brackets identifies where the individual funding availability announcement that is being corrected can be found in the May 14, 2004, SuperNOFA.

General Section of SuperNOFA [Page 26941]

On page 26943, under section III.C.2.c. entitled “Compliance with Fair Housing and Civil Rights Laws,” subsection (1) is corrected to exclude federally recognized Indian tribes from the requirements of the Fair Housing Act.

On page 26948, under section IV.F.2.b. incorrectly provided that proof of timely submission to the United States Postal Service included a receipt not later than five days after the application due date at the designated HUD facility. In fact, proof of timely submission to the United States Postal Service includes a receipt dated not later than fifteen days after the application due date at the designated HUD facility.

On page 26948, under section IV.F.5. entitled, “Electronic Submission of Packages using Grant.gov,” HUD incorrectly identified the 2003 Capacity Building Grants as one of two programs included in its Grants.gov electronic pilot program. The 2004 Capacity Building Grants NOFA will be part of the Grants.gov pilot.”

On page 26949, under section V.A.1.a., entitled “RC/EZ/EC,” HUD is correcting the Web address to the site where applicants can determine if their project or program activities are located within a federally designated Renewal Community (RC), Empowerment Zone (EZ), Enterprise Community (EC), or Urban Enhanced Enterprise Community (EEC).

On page 26999, HUD is republishing Appendix B, entitled “HUD 2004 SuperNOFA Funding Chart” to reflect these technical corrections.

On page 27005, HUD is republishing Appendix C entitled “HUD field office Contact Information” to correct a number of errors in the list published in the May 14, 2004, Federal Register notice.

On page 27009, HUD is republishing Appendix D entitled “Office of Native American Programs (ONAP)” to correct a number of errors in the list published in the May 14, 2004, Federal Register notice.

On page 27016, HUD is modifying Appendix E entitled, “List of EZs, ECs, Urban Enhanced Enterprise Communities, and Renewal Communities,” as it relates to contacts for New York and will publish the revised listing on its Web site at http://www.hud.gov/offices/adm/grants/fundsavail.cfm.

Alaska Native/Native Hawaiian Institutions Assisting Communities Program (AN/NHIAC) [Page 27063]

On page 27069, under section V.A.1.a. entitled, “Knowledge and Experience For Previously Unfunded or First Time Applicants (25 Points) For Previously Funded Applicants,” HUD failed to identify the number of points available to previously funded applicants under this sub-factor. Ten (10) points are available for previously funded applicants under this sub-factor. HUD believes that notice of the number of points available to previously funded applicants under this sub-factor was evident from the discussion in section V.A.1. Specifically, section V.A.1. provides that 25 points are available for rating factor 1. Section V.A.1.b. provides that 15 points are available to previously funded applicants on the basis of past performance. Previously funded applicants could, therefore, reasonably conclude that 10 points are available under section V.A.1.a., Knowledge and Experience.

Fair Housing Initiatives Programs [Page 27135]

On page 27145, under section V.A.1.b. entitled, “Organizational experience,” HUD mistakenly stated that 10 points were available to new applicants under this factor. Fifteen (15) points are available for new applicants under this sub-factor. HUD believes that notice of the number of points available to new applicants under this sub-factor was evident from the discussion in section V.A.1. Specifically, section V.A.1. provides that 25 points are available for rating factor 1. Section V.A.1.a. provides that 10 points are available to new applicants on the basis of number and expertise of staff. Section V.A.1.c. provides that no points are available to new applicants under this sub-factor. New applicants could, therefore, reasonably conclude that 15 points are available under section V.A.1.b., Organizational Experience.

On page 27146, under section V.A.1.c. entitled, “Performance on past project(s),” a hard return was missed causing this sub-factor to appear to be part of section V.A.1.b.(4). For the convenience of the public, section V.A.1.c. is reprinted.

Fair Housing Initiatives Programs, Education and Outreach Initiative—Partnership With Historically Black Colleges and Universities [Page 27157]

On page 27161, section IV.C., entitled “Submission Dates and Times,” HUD incorrectly listed the date by which applicants must submit their completed applications. Consistent with the due date provided at paragraph F under “Overview Information” (page 27159) and the HUD 2004 SuperNOFA Funding Chart, Appendix B to the General Section (page 26999), the date by which applicants must submit their corrected application is June 18, 2004.

Housing Counseling Programs [Page 27169]

On page 27172, under section II.C.2. entitled, “Category 2,” HUD incorrectly noted that individual awards for HUD-approved National and Regional intermediaries may not exceed $3.4 million. Similarly, HUD incorrectly noted that supplemental funding for Colonias is $300,000. The correct figures are $3.3 million and $200,000, respectively.

On pages 27173 and 27174 under section III.A.2.c., HUD incorrectly provided that eligible sub-grantees of intermediaries and State Housing Finance Agencies (SHFAs) must have only one location or main office with one or more branch offices within the same state or no more than two adjacent states. Sub-grantees do not need to meet this requirement in order to be eligible sub-grantees of intermediaries and SHFAs.

Self-Help Homeownership Opportunity Program (SHOP) [Page 27359]

On page 27366, first column, paragraph d under the section entitled, “Submission Requirements for Factor 3,” is corrected to delete reference to form HUD-424C. Applicants are not required to submit the HUD-424C as part of their application.

On page 27366, under “Rating Factor 4: Leveraging Resources (10 Points)” second to the last sentence of the introductory paragraph is corrected to note that leveraging does not include the financing of permanent mortgages.

Public Housing Neighborhood Networks [Page 27405]

On page 27407, section F under “Overview Information” entitled “Dates” the application due date is extended to August 17, 2004. If you submitted an application for the Public Housing Neighborhood Networks program, you will be provided the opportunity to resubmit your application in accordance with the August 17, 2004, deadline date. The address for submission remains unchanged. In the event that HUD receives two or more applications from the same applicant, HUD will only consider the application with the latest submission date.

On Page 27410, section III.C.3.b. entitled “Joint applications,” is being corrected to remove the requirement that non-lead applicants are subject to the threshold requirements.

On Page 27411, section III.C.7. entitled “Environmental Impact,” subsection b is corrected to clarify the environmental requirements for tribal housing agencies and tribal designated housing entities (TDHEs).

On Page 27412, section IV.E.2. entitled, “Covered Salaries,” a correction is being made to provide that Neighborhood Networks grant funds cannot be used to hire or pay for the services of a Contract Administrator.

Public Housing Resident Opportunities and Self-Sufficiency Program [Page 27439]

On page 27441, section F under “Overview Information” entitled “Dates” the application due date for Resident Service Delivery Models—Elderly/Persons with Disabilities is extended to August 3, 2004. Similarly, the application due date for Resident Service Delivery Models—Family is extended to August 3, 2004. If you submitted an application for any of these program NOFAs, you will be provided the opportunity to resubmit your application in accordance with the applicable, deadline date. The address for submission remains unchanged. In the event that HUD receives two or more applications from the same applicant, HUD will only consider the application with the latest submission date.

On Page 27449, section III.C.4.c. entitled “Joint Applications,” HUD incorrectly provided that non-lead applicants would be subject to the same threshold requirements as the lead applicant. A correction is made to identify the threshold requirements that non-lead applicants are required to meet.

Page 27450, section IV.E. entitled “Funding Restrictions,” a correction is made to note that ROSS grant funds cannot be used to hire or pay for the services of a Contract Administrator.

Page 27452, section V.A.1.b.(1) entitled “Socioeconomic Profile (5 points),” HUD mistakenly stated that 5 points were available to applicants under this factor. Ten points are available under this sub-factor. HUD believes that notice of the number of points available to new applicants under this sub-factor was evident from the discussion in section V.A.1.b. Specifically, section V.A.1.b. provides that 20 points are available for rating factor 2. Since section V.A.1.b.(2) and section V.A.1.B.(4) makes a total of 10 points available to RSDM-Family and Homeownership applicants, this group of applicants could, therefore, reasonably conclude that 10 points are available under section V.A.1.b.(1). Similarly, since section V.A.1.b.(3) and section V.A.1.B.(4) makes a total of 10 points available to RSDM-Elderly/Persons with disabilities applicants, this group of applicants could, therefore, reasonably conclude that 10 points are available under section V.A.1.b.(1).

Public Housing Family Self-Sufficiency [Page 27473]

On page 27478, section IV.B.2.(b)(2), a correction is made to clarify the instructions on the assembly order of the application package.

Continuum of Care Homeless Assistance Programs [Page 27495]

On pages 27505 and 27506, sections IV.B.1.b. and IV.B.1.c. are corrected to clarify the instructions on the assembly order of the application package.

On page 27506, under section IV.C.1.b., a correction is being made to provide instruction on use of the HUD field office copy when a portion of an applicant's application to HUD Headquarters may be missing.

On page 27575, a correction is being made to the first page of Exhibit 3, Project Component/Information/Participant Count/Major Milestones (Form HUD-40076 CoC-3C) to remove extraneous information that applicants need not provide.

Service Coordinators in Multifamily Housing [Page 27683]

On page 27687, under section III.C.2.a., HUD is correcting a cross reference that is in error.

Section 202 Supportive Housing for the Elderly Program (Section 202 Program) [Page 27709]

On page 27711, section F under “Overview Information” entitled “Dates” the application due date is extended to July 22, 2004. If you submitted an application for the Section 202 Program, you will be provided the opportunity to resubmit your application in accordance with the July 22, 2004, deadline date. The address for submission remains unchanged. If the applicant resubmits its application as a result of these technical corrections, HUD will only consider the application with the latest submission date.

On page 27717, under section III.C.2.b.(3)(c), (i), clarification is added, as a result of the extension of the application due date, to advise applicants that a Phase I Environmental Site Assessment (ESA) dated January 7, 2004, or later will meet the requirement for submitting a Phase I ESA.

On page 27717, under section III.C.2.b.(3)(c)(ii), as a result of the extension of the application due date, a change is made to the date by which applicants must submit their Phase II Environmental Site Assessment.

On page 27717, under section III.C.2.b.(3)(c)(iii), as a result of the extension of the application due date, a change is made to the date by which applicants must submit a plan and supporting documentation to clean-up a site that revealed contamination during the Phase II Environmental Site Assessment.

On page 27724, under section IV.B.2.b.(2)(j), a correction is made to clarify that HUD is requesting a description of the efforts to remove regulatory barriers to affordable housing of the jurisdiction in which the project will be located.

On page 27725, under IV.B.2.c.(1)(d)(i)(C), as a result of the extension of the application due date, a clarification is added to indicate to applicants that an option to purchase or long-term leasehold must be effective through January 7, 2005, or later.

On page 27726, under section IV.B.2.c.(1)(d)(vii), as a result of the extension of the application due date, a clarification is made to advise applicants that a Phase I Environmental Site Assessment (ESA) dated January 7, 2004, or later will be acceptable and to change the date by which applicants must submit their Phase II ESA and any necessary plans for clean-up of a site that revealed contamination during the Phase II ESA.

On page 27735, under section IV.C. entitled, “Submission Dates and Time,” a correction is being made to clarify the time by which copies of applications must be submitted to the HUD field office.

On page 27738 under section V.A.3. entitled, “Rating Factor 3: Soundness of Approach (45 Points),” a correction is made to clarify that points will be awarded on the basis of the efforts to remove regulatory barriers to affordable housing of the jurisdiction in which the project will be located.

On page 27738 under section V.A.3.k., a correction is made to clarify that points will be awarded on the basis of the efforts to remove regulatory barriers to affordable housing of the jurisdiction in which the project will be located.

On page 27739, under section V.A.6. entitled, “Bonus Points (2 bonus points),” a correction is being made to correctly identify the location of the Application Submission Requirements that applicants must address in order to obtain bonus points.

Section 811 Program of Supportive Housing for Persons With Disabilities (Section 811 Program) [Page 27753]

On page 27755, section F under “Overview Information” entitled “Dates” the application due date is extended to July 22, 2004. If you submitted an application for the Section 811 program, you will be provided the opportunity to resubmit your application in accordance with the July 22, 2004, deadline date. The address for submission remains unchanged. If you resubmit your application as a result of these technical corrections, HUD will only consider the application with the latest submission date.

On page 27760, under section III.C.2.b.(3)(d)(i), clarification is added, as a result of the extension of the application due date, to advise applicants guidance that a Phase I Environmental Site Assessment (ESA) dated January 7, 2004 or later will meet the requirement for submitting a Phase I ESA.

On page 27760, under section III.C.2.b.(3)(d)(ii), as a result of the extension of the application due date, a change is made to the date by which applicants must submit their Phase II Environmental Site Assessment.

On page 27760, under section III.C.2.b.(3)(d)(iii), as a result of the extension of the application due date, a change is made to the date by which applicants must submit a plan and supporting documentation to clean-up a site that revealed contamination during the Phase II Environmental Site Assessment.

On page 27770, under section IV.B.2.b.(2)(l), a correction is made to clarify that HUD is requesting a description of the efforts to remove regulatory barriers to affordable housing of the jurisdiction in which the project will be located.

On page 27771, under IV.B.2.c.(1)(d)(i)(C), as a result of the extension of the application due date, a clarification is added to indicate to applicants that an option to purchase or long-term leasehold must be effective through January 7, 2005 or later.

On page 27772, under section IV.B.2.c.(1)(d)(vii), as a result of the extension of the application due date, a clarification is made to advise applicants that a Phase I Environmental Site Assessment (ESA) dated January 7, 2004 or later will be acceptable and to change the date by which applicants must submit their Phase II ESA and any necessary plans for clean-up of a site that revealed contamination during the Phase II ESA.

On page 27786, under section IV.C. entitled, “Submission Date and Time,” a correction is being made to clarify the time by which copies of applications submitted to the HUD field office.

On page 27788 under section V.A.3. entitled, “Rating Factor 3: Soundness of Approach (40 Points),” a correction is made to clarify that points will be awarded on the basis of the efforts to remove regulatory barriers to affordable housing of the jurisdiction in which the project will be located.

On page 27789 under section V.A.3.j., a correction is made to clarify that points will be awarded on the basis of the efforts to remove regulatory barriers to affordable housing of the jurisdiction in which the project will be located.

Accordingly, in the Notice of HUD's Fiscal Year (FY) 2004, Notice of Funding Availability (NOFA), Policy Requirements and General Section to the SuperNOFA for HUD's Discretionary Grant Programs (FR Doc. 04-10548), beginning at 69 FR 26941, in the issue of May 14, 2004, the following corrections are made.

1. General Section of the SuperNOFA, Beginning at Page 26941

On page 26943, first column, section III.C.2.c.(1) is corrected to read: (1) With the exception of federally recognized Indian tribes and their instrumentalities, all applicants and their subrecipients must comply with all Fair Housing and Civil Rights laws, statutes, regulations, and Executive Orders as enumerated in 24 CFR 5.105(a), as applicable. If you are a federally recognized Indian tribe, you must comply with the non-discrimination provisions enumerated at 24 CFR 1000.12, as applicable. In addition to these requirements, there may be program-specific threshold requirements identified in the Program Sections of the SuperNOFA.

On page 26948, first column, section IV.F.2.b. is corrected to read as follows: b. For package submitted via the United States Postal Service, proof of timely submission shall be a postmark not later than the application due date or receipt not later than fifteen days after the application due date at the designated HUD facility and, upon request by a HUD official, proof of mailing using USPS Form 3817 (Certificate of Mailing) or a receipt from the Post Office which contains the post office name, location, and date time and mailing. For submission through the United States Postal Service, no other proof of timely submission will be accepted. Applications not meeting the timely submission requirements will not be considered for funding.

On page 26948, third column, last paragraph under section IV.F.5., is corrected to read as follows:

Paper copy submission will not apply to two programs that HUD is piloting for electronic applications through Grants.gov/Find and Grants.gov/APPLY. The two programs are the Housing Counseling Training and FY2004 Capacity Building Grants. These are issued outside the SuperNOFA.

On page 26949, first column, section V.A.1.a., entitled “RC/EZ/EC,” the web address at the end of the paragraph is corrected to read as follows: http://hud.esri.com/egis/cpd/rcezec/welcome.htm#.

On page 27003, HUD is republishing Appendix B, entitled “HUD 2004 SuperNOFA Funding Chart” to reflect the changes contained in this technical correction.

BILLING CODE 4210-32-P

On page 27005, HUD is republishing Appendix C entitled “HUD field office Contact Information” to correct a number of errors in the list published in the May 14, 2004, Federal Register notice.

On page 27009, HUD is republishing Appendix D entitled “List of Native American Programs (ONAP) Offices” to correct a number of errors in the list published in the May 14, 2004, Federal Register notice.

BILLING CODE 4210-32-C

2. Alaska Native/Native Hawaiian Institutions Assisting Communities Program (AN/NHIAC), Beginning at Page 27063

On page 27069, in the first column, section V.A.1.a. entitled, “Knowledge and Experience For Previously Unfunded or First Time Applicants (25 Points) For Previously Funded Applicants,” is corrected to read as follows: “Knowledge and Experience For Previously Unfunded or First Time Applicants (25 Points) For Previously Funded Applicants (10 Points).”

3. Fair Housing Initiatives Programs, Beginning at Page 27135

On page 27145, in the third column, section V.A.1.b. entitled, “Organizational experience. (10) Points for current FHIP grantees, (10) Points for New Applicants,” is corrected to read as follows: “Organizational experience. (10) Points for current FHIP grantees, (15) Points for New Applicants.”

On page 27146, in the first column, section V.A.1.c. entitled, “Performance on past project(s),” is republished to correct a formatting error as follows:

c. Performance on past project(s). (10) Points for current FHIP grantees, (0) Points for new applicants. You must describe your organization's past performance in conducting activities relevant to your proposal, in the past two years (FY2001 and 2002 FHIP grants), demonstrating good financial management and documenting timely use of funds, timely reporting and submissions of tasks and deliverables. HUD may supplement information you provide with relevant information on-hand or available from public sources such as newspapers, Inspector General or General Accounting Office Reports or Findings, hotline complaints that have been proven to have merit, or other such sources of information. In evaluating past performance, the following points will be deducted from your score under this rating sub-factor:

10 points will be deducted if you received a “fair performance” assessment;

5 points will be deducted if you received a “good performance” assessment; and

0 points will be deducted if you received an “excellent performance” assessment.

4. Fair Housing Initiatives Programs, Education and Outreach Initiative—Partnership With Historically Black Colleges and Universities, Beginning at Page 27157

On page 27161, third column under section IV.C., entitled “Submission Dates and Times,” is corrected to read as follows:

You must submit a completed application (one original and three copies) for the specific initiative and component for which you are applying on or before June 18, 2004, to the HUD Headquarters building. Applicants missing the deadline will have their applications returned without further review by the Technical Evaluation Panel.

5. Housing Counseling Programs, Beginning at Page 27169

On page 27172, first column, section II.C.2. entitled, “Category 2,” is corrected to read as follows:

2. Category 2. Awards for individual HUD-approved National and Regional intermediaries may not exceed $3.3 million. The limit for Comprehensive Counseling is $2.5 million. If applicable, the limit for supplemental funding for predatory lending is $325,000, the limit for supplemental funding for Homeownership Voucher Counseling is $275,000, and the limit for supplemental funding for Colonias is $200,000. HUD anticipates that the average award for Intermediaries will be $1.1 million.

On pages 27173, third column, second paragraph under section III.A.2.c., is corrected to read as follows:

Additionally, to be eligible for a sub-grant, a sub-grantee must be (1) duly organized and existing as a nonprofit, (2) in good standing under the laws of the state of its organization, and (3) authorized to do business in the states where it proposes to provide housing counseling services. For example, applicable state licensing, corporate filing, and registering requirements must be satisfied.

6. Self-Help Homeownership Opportunity Program (SHOP), Beginning at Page 27359

On page 27366, first column, paragraph d entitled, “(6 points) Budget.” is corrected to read as follows:

d. (6 points) Budget. Provide a detailed budget including a break out for each proposed task and each budget category (acquisition, infrastructure improvements, and administration) funded by SHOP in the HUD-424CB. If SHOP funds will be used for administration of your grant, you must include the cost of monitoring consortium members and affiliates at least once during the grant period. Your budget must also include leveraged funding to cover costs of completing construction of the proposed number of units.

On page 27366, second column entitled “Rating Factor 4: Leverage Resources (10 Points),” the second to the last sentence of the introductory paragraph is corrected to read as follows: “Leveraging does not include financing of permanent mortgages to homebuyers.”

7. Public Housing Neighborhood Networks, Beginning at Page 27405

On page 27407, first column, section F under “Overview Information” entitled “Dates, the first sentence of the paragraph is corrected to read as follows: The application due date is to August 17, 2004.

On Page 27410, second column, Section III.C.3.b. entitled “Joint applications,” is corrected to read as follows:

b. Joint applications. Two or more applicants may join together to submit a joint application for proposed grant activities. Joint applications must designate a lead applicant. Lead applicants are subject to the threshold requirements. Applicants who submit joint applications may not also submit separate applications as sole applicants under this NOFA. NOTE: The lead applicant will determine the maximum funding amount the applicants are eligible to receive.

On Page 27411, first column, Section III.C.7.b. is corrected to read as follows: b. If the grantee is a PHA, HUD has approved the grantee's Request for Release of Funds (Form HUD-7015.15) following a Responsible Entity's completion of an environmental review under 24 CFR part 58, where required, or if HUD has determined in accordance with § 58.11 to perform the environmental review itself under part 50, HUD has completed the environmental review.

On Page 27412, first column, Section IV.E.2. entitled, “Covered Salaries,” is corrected to add a new subsection (d) that reads as follows:

d. Neighborhood Networks grant funds cannot be used to hire or pay for the services of a Contract Administrator.

8. Public Housing Resident Opportunities and Self-Sufficiency Program, Beginning at Page 27439

On page 27441, first column, section F under “Overview Information” entitled “Dates, is corrected to read as follows:

F. Dates: Resident Service Delivery Models-Elderly/Persons with Disabilities: The application due date is to August 3, 2004. Please see the General Section of the SuperNOFA for application submission, delivery, and timely receipt requirements.

Resident Service Delivery Models-Family: The application due date is to August 3, 2004. Please see the General Section of the SuperNOFA for application submission, delivery, and timely receipt requirements.

On page 27449, first column, section III.C.4.c. entitled “Joint Applications,” is corrected to read as follows:

c. Joint applications. Two or more applicants may join together to submit a joint application for proposed grant activities. Joint applications must designate a lead applicant. Lead applicants are subject to all threshold requirements. Non-lead applicants are subject to the following threshold requirements as applicable:

(1) Letters of support for nonprofit applicants and

(2) Nonprofit status, as outlined in section III.C.2. Threshold Requirements.

Joint applications may include PHAs, RAs, Tribes/TDHEs, and nonprofit organizations on behalf of resident organizations. Joint applications involving nonprofit organizations must also provide evidence of resident support or support from local civic organizations or from units of local government. PHAs, tribes/TDHEs, and resident organizations that are part of a joint application may not also submit separate applications as sole applicants under this NOFA.

Note: The lead applicant will determine the maximum funding amount the applicants are eligible to receive.

Page 27450, second column, section IV.E. entitled “Funding Restrictions,” is corrected by adding, immediately after subsection IV.E.7., a new subsection IV.E.8 to read as follows:

8. ROSS grant funds cannot be used to hire or pay for the services of a Contract Administrator.

Page 27452, second column, section V.A.1.b.(1), is corrected to read as follows:

(1) Socioeconomic Profile (10 points). A thorough socioeconomic profile of the eligible residents to be served by the program, including education levels, income levels, the number of single-parent families, economic statistics for the local area, etc.

9. Public Housing Family Self-Sufficiency, Beginning at Page 27473

On page 27478, second column, section IV.B.2.(b)(2), is corrected to read as follows:

(2) Format for submission of SuperNOFA forms, FSS forms and narrative responses.

TAB 1: Required Forms from the General Section of the SuperNOFA and other ROSS forms: SF-424 Application for Federal Assistance:

1. SF-424 Supplement, Survey on Ensuring Equal Opportunity for Applicants;

2. Questionnaire for HUD's Initiative on Removal of Regulatory Barriers (HUD-27300);

3. HUD-52751 Fact Sheet;

4. HUD-424 B Applicant Assurances and Certifications;

5. HUD-424 CB Grant Application Detailed Budget;

6. HUD-2880 Applicant Disclosure/Update Report;

7. HUD-2990 Certification of Consistency with RC/EZ/EC Strategic Plan(if applicable);

8. HUD-2991 Certification of Consistency with the Consolidated Plan (if applicable);

9. SF-LLL Disclosure of Lobbying Activities (if applicable);

10. SF-LLL-A Disclosure of Lobbying Activities Continuation Sheet (if applicable);

11. HUD-2993 Acknowledgement of Application Receipt; and

12. HUD-2994 Client Comments and Suggestions (optional)

TAB 2: Threshold Requirements:

• Contract Administrator Partnership Agreement (required for troubled PHAs) (HUD-52755).

TAB 3: Narrative for Rating Factor 1 and ROSS Program Forms:

1. Narrative.

2. Chart A: HUD52756 Program Staffing.

3. Chart B: HUD 52757 Applicant/Administrator Track Record.

4. Resume(s)/Position Description(s).

TAB 4: Narrative for Rating Factor 2:

TAB 5: Rating Factor 3:

1. Narrative.

2. HUD 52767 Family Self-Sufficiency Funding Request Form.

TAB 6: Narrative for Rating Factor 4 and ROSS Program Forms:

1. Narrative.

2. Logic Model (HUD 96010).

10. Continuum of Care Homeless Assistance Programs, Beginning at Page 27495

On pages 27505, third column, section IV.B.1.b. is deleted and section IV.B.1.c. redesignated as section IV.B.1.b. and corrected to read as follows:

b. Assembly Order—Each CoC must submit the entire CoC application, with all of its parts, in a single package to HUD. There are three separate sections to a CoC submission: the CoC Exhibit 1; all applicant documentation; all project documentation. The application must be assembled in the following order:

(1) CoC Exhibit 1 section:

(a) 2004 Application Summary Form.

(b) Exhibit 1, the CoC plan with all required forms, including HUD-27300, Questionnaire for HUD's Initiative on Removal of Regulatory Barriers and any necessary references or documentation.

(2) Applicant Documentation section:

(a) SF-424 Application for Federal Assistance. An SF-424 is not included with each project. Each applicant must attach the following documentation (i-iv) to its SF-424:

(i) A typed list of all the applicant's projects by priority number order, project name and requested amount.

(ii) HUD-424-B Applicant Assurances and Certifications.

(iii) Documentation of Applicant Eligibility. Only applicants for new projects must include documentation of eligibility.

(iv) Special Certifications for homeless programs, located in Attachment 8 of this NOFA:

—Applicant Certification

—Coordination and Integration of Mainstream Programs

—Discharge Policy (Only State and local government applicants)

Note: Each SF-424 must also include the applicant's DUN and Bradstreet Data Universal Numbering System (DUNS) number. (Please see the General Section of the SuperNOFA for more information on obtaining a DUNS number.)

(3) Project Documentation section. Each project exhibit must be submitted in its priority list order with all required forms for that exhibit. The following certifications must be included after each project submission:

(a) Documentation of Sponsor Eligibility. Only sponsors for new projects must include documentation of eligibility.

(b) HUD-2991, Certification of Consistency with the Consolidated Plan;

(c) HUD-2880, Applicant/Recipient Disclosure/Update Report; and

(d) HUD-424—Supplement, Survey on Ensuring Equal Opportunity for Applicants (for nonprofit applicants or sponsors only).

On page 27506, first column, section IV.C.1.b. entitled, “Field Office Copies:” is corrected to read as follows:

b. Field Office Copies: The General Section of the SuperNOFA provides for a process to use the HUD field office copy of the application when a portion may be missing from the HUD Headquarters copy. To supplement that guidance, in the rare event that a CoC's entire application is not received at HUD Headquarters, HUD may use the copy received by the field office provided it was received on time.

On page 27575, a corrected Exhibit 3 entitled, Project Component/Information/ Participant Count/Major Milestones (Form HUD 40076 CoC-3C) is revised as follows:

BILLING CODE 4210-32-P

BILLING CODE 4210-32-C

11. Service Coordinators in Multifamily Housing, Beginning at Page 27683

On page 27687, second column, section III.C.2.a., HUD is corrected to read as follows:

a. At the time of submission, grant applications must contain the materials in Section IV.B.2.a. and e. of this Program NOFA in order to be considered for funding. If any of these items are missing, HUD will immediately reject your application.

12. Section 202 Supportive Housing for the Elderly Program (Section 202 Program), Beginning at Page 27709

On page 27711, first column, section F under “Overview Information” entitled “Dates, the first sentence of the paragraph is corrected to read as follows: Application Deadline Date: July 22, 2004.

On page 27717, first column, section III.C.2.b.(3)(c)(i), is corrected to read as follows:

(i) Phase I Environmental Site Assessment (ESA). You must submit a Phase I ESA, prepared in accordance with the ASTM Standards E 1527-00, as amended, completed or updated no earlier than six months prior to the application deadline date. As a result of the extension of the application deadline, a Phase I that is dated January 7, 2004, or later will meet the requirement for submitting a Phase I ESA. The Phase I ESA must be completed and submitted with the application. Therefore, it is important that you start the Phase I ESA process as soon after publication of the SuperNOFA as possible. To help you choose an environmentally safe site, HUD invites you to review the document “Choosing an Environmentally Safe Site” which is available on HUD's Web site at www.hud.gov/grants/index.cfm and the “Supplemental Guidance, Environmental Information”, in Appendix C to this program section of the SuperNOFA.

On page 27717, first column, section III.C.2.b.(3)(c)(ii), is corrected to read as follows:

(ii) Phase II ESA. If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered for review under this FY2004 funding competition, the Phase II must be submitted to the local HUD Office on or before August 23, 2004.

On page 27717, first column, section III.C.2.b.(3)(c)(iii), is corrected to read as follows:

(iii) Clean-up—If the Phase II ESA reveals site contamination, the extent of the contamination and a plan for clean-up of the site must be submitted to the local HUD Office. The plan for clean-up must include a contract for remediation of the problem(s) and an approval letter from the applicable federal, state, and/or local agency with jurisdiction over the site. In order for your application to be considered for review under this FY2004 funding competition, you must submit this information to the local HUD Office on or before August 23, 2004.

On page 27724, third column, section IV.B.2.b.(2)(j), is corrected to read as follows:

(j) A description of the successful efforts the jurisdiction in which your project will be located has taken in removing regulatory barriers to affordable housing. To obtain up to 2 points for this policy priority, you must complete the optional Form HUD-27300, “Questionnaire for HUD's Initiative on Removal of Regulatory Barriers” in Exhibit 8(l) of the application and provide the necessary reference or documentation. Refer to section V., entitled “Evaluation Criteria” in the Notice, “America's Affordable Communities Initiative, HUD's Initiative on Removal of Regulatory Barriers: Announcement of Incentive Criteria on Barrier Removal in HUD's FY2004 Competitive Funding Allocations” that was published in the Federal Register on March 22, 2004 (69 FR 13450), with instructions on how to complete the form and how it will be evaluated. A clarification was published on April 21, 2004 (69 FR 21663). Copies of the Federal Register notices and the Form HUD-27300, can be obtained from HUD's Web site at http://www.hud.gov/offices/adm/grants/nofa04/snofaforms.cfm.

On page 27725, second column, section IV.B.2.c.(1)(d)(i)(C), is corrected to read as follows:

(C) Option to purchase or for a long-term leasehold, which must remain in effect for six months from the date on which the applications are due, must state a firm price binding on the seller, and be renewable at the end of the six-month period. The only condition on which the option may be terminated is if you are not awarded a fund reservation. As a result of the extension of the application deadline, an option to purchase or long-term leasehold must be effective through January 7, 2005 or later;

On page 27726, first column, section IV.B.2.c.(1)(d)(vii), is corrected to read as follows:

(vii) A Phase I Environmental Site Assessment (ESA), in accordance with the ASTM Standards E 1527-00, as amended, must be completed and submitted with the application. In order for the Phase I ESA to be acceptable, it must have been completed or updated no earlier than January 7, 2004. Therefore, it is important to start the site assessment process as soon after the publication of the NOFA as possible. If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environmental Guidelines. If you choose to continue with the original site on which the Phase I ESA indicated contamination or hazards, you must undertake a detailed Phase II ESA by an appropriate professional. If the Phase II Assessment reveals site contamination, you must submit the extent of the contamination and a plan for clean-up of the site including a contract for remediation of the problem(s) and an approval letter from the applicable federal, state, and/or local agency with jurisdiction over the site to the local HUD office. The Phase II and any necessary plans for clean-up do not have to be submitted with the application but must be submitted to the local HUD office by August 23, 2004. If it is not submitted by that date, the application will be rejected.

On page 27735, first column, section IV.C. entitled, “Submission Date and Time,” is corrected to read as:

C. Submission Dates and Time. You must submit an original and four copies of your application. Applications may be hand delivered, mailed or submitted by courier service. If mailed by the United States Postal Service, the original and four copies must be postmarked on or before midnight of July 22, 2004, and received in the local HUD office within 15 days of the due date. If hand delivered or submitted by courier service, the original and four copies must be received by the appropriate office on the application due date in accordance with the Delivery and Receipt procedures contained in section IV.F.1 of the General Section. Please refer to the General Section of the SuperNOFA for further instructions regarding the time deadline for receipt of applications that are hand carried or submitted by courier service as well as other application mailing and receipt procedures.

On page 27738, first column, section V.A.3. entitled, “Rating Factor 3: Soundness of Approach (45 Points),” the introductory paragraph is corrected to read as follows:

3. Rating Factor 3: Soundness of Approach (45 Points)

This factor addresses the quality and effectiveness of your proposal and the extent to which you involved elderly persons, including elderly minority persons, in the development of the application and will involve them in the development and operation of the project, and whether the jurisdiction in which your project will be located has undertaken successful efforts to remove regulatory barriers to affordable housing. There must be a clear relationship between your proposed design, proposed activities, the community's needs and purposes of the program funding for your application to receive points for this factor. Submit information responding to this factor in accordance with Application Submission Requirements in Exhibits 3(f), 3(j), 4(c)(i), 4(d)(iii), 4(d)(v), 4(d)(vi) and 5 of Section IV.B. of this program section of the SuperNOFA. In evaluating this factor, HUD will consider the following:

On page 27738, third column, section V.A.3.k., is corrected to read as follows:

(k) (2 points). The jurisdiction in which your project will be located has undertaken successful efforts to remove regulatory barriers to affordable housing.

On page 27739, second column, section V.A.6. entitled, “Bonus Points (2 bonus points),” is corrected to read as follows:

6. Bonus Points (2 bonus points). Location of proposed site in an RC/EZ/EC area, as described in the General Section of the SuperNOFA. Submit the information responding to the bonus points in accordance with the Application Submission Requirements in Exhibit 8(i) of Section IV.B. of this program section of the SuperNOFA.

13. Section 811 Program of Supportive Housing for Persons With Disabilities (Section 811 Program), Beginning at Page 27753

On page 27755, first column, section F under “Overview Information” entitled “Dates”, the first sentence of the paragraph is corrected to read as follows: Application Deadline Date: July 22, 2004.

On page 27760, first column, section III.C.2.b.(3)(d)(i), is revised to read as follows:

(i) Phase I Environmental Site Assessment (ESA)—You must submit a Phase I ESA, prepared in accordance with the ASTM Standards E 1527-00, as amended, completed or updated no earlier than six months prior to the application deadline date, in order for the application to be considered as an application with site control. As a result of the extension of the application deadline, a Phase I that is dated January 7, 2004, or later meet the requirement for submitting a Phase I ESA. The Phase I ESA must be completed and included in your application. Therefore, it is important that you start the Phase I ESA process as soon after publication of the SuperNOFA as possible. To help you choose an environmentally safe site, HUD invites you to review the document “Choosing An Environmentally Safe Site” which is available on HUD's Web site at http://www.hud.gov/grants/index.cfm and the “Supplemental Guidance, Environmental Information” in Appendix C to this program section of the SuperNOFA.

On page 27760, second column, section III.C.2.b.(3)(d)(ii), is revised to read as follows:

(ii) Phase II ESA—If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered as an application with site control, the Phase II must be submitted to the local HUD office on or before August 23, 2004.

On page 27760, second column, section III.C.2.b.(3)(d)(iii), is revised to read as follows:

(iii) Clean-up—If the Phase II ESA reveals site contamination, the extent of the contamination and a plan for clean-up of the site must be submitted to the local HUD office. The plan for clean-up must include a contract for remediation of the problem(s) and an approval letter from the applicable federal, state, and/or local agency with jurisdiction over the site. In order for your application to be considered as an application with site control, you must submit this information to the appropriate local HUD office on or before August 23, 2004.

On page 27770, third column, section IV.B.2.b.(2)(l), is corrected to read as follows:

(l) A description of the successful efforts the jurisdiction in which your project will be located has taken in removing regulatory barriers to affordable housing. To obtain up to 2 points for this policy priority, you must complete the optional Form HUD-27300, “Questionnaire for HUD's Initiative on Removal of Regulatory Barriers” in Exhibit 8(m) of the application. Refer to section V., entitled, “Evaluation Criteria” in the Notice entitled, “America's Affordable Communities Initiative, HUD's Initiative on Removal of Regulatory Barriers: Announcement of Incentive Criteria on Barrier Removal in HUD's FY2004 Competitive Funding Allocations” that was published in the Federal Register on March 22, 2004 (69 FR 13450), with instructions on how to complete the form and how it will be evaluated. A clarification was published on April 21, 2004 (69 FR 21663). Copies of the Federal Register notices and the Form HUD-27300, can be obtained from HUD's Web site at http://www.hud.gov/offices/adm/grants/fundsavail.cfm.

On page 27771, third column, section IV.B.2.c.(1)(d)(i)(C), is corrected to read as follows:

(C) Option to purchase or for a long-term leasehold, which must remain in effect for six months from the date on which the applications are due, must state a firm price binding on the seller, and be renewable at the end of the sixth month period. The only condition on which the option may be terminated is if you are not awarded a fund reservation. As a result of the extension of the application deadline, an option to purchase or long-term leasehold must be effective through January 7, 2005, or later;

On page 27772, second column, section IV.B.2.c.(1)(d)(vii), is corrected to read as follows:

(vii) A Phase I Environmental Site Assessment (ESA), in accordance with the ASTM Standards E 1527-00, as amended, must be completed and submitted with the application. In order for the Phase I ESA to be acceptable, it must have been completed or updated no earlier than January 7, 2004. Therefore, it is important to start the site assessment process as soon after the publication of the NOFA as possible. If the Phase I ESA indicates possible presence of contamination and/or hazards, you must decide whether to continue with this site or choose another site. Should you choose another site, the same Phase I ESA process identified above must be followed for the new site. If the property is to be acquired from the FDIC/RTC, include a copy of the FDIC/RTC prepared Transaction Screen Checklist or Phase I ESA and applicable documentation, per the FDIC/RTC Environmental Guidelines. If you choose to continue with the original site on which the Phase I ESA indicated contamination or hazards, you must undertake a detailed Phase II ESA by an appropriate professional. If the Phase II Assessment reveals site contamination, your must submit the extent of the contamination and a plan for clean-up of the site including a contract for remediation of the problem(s) and an approval letter from the applicable federal, state and/or local agency with jurisdiction over the site to the local HUD office. The Phase II and any necessary plans for clean-up do not have to be submitted with the application but must be submitted to the local HUD office by August 23, 2004. If it is not submitted by that date, the site will be rejected and the application will be considered a “site identified” application.

On page 27786, first column, section IV.C. entitled, “Submission Dates and Time,” is corrected to read as follows:

C. Submission Dates and Time

You must submit an original and four copies of your application. Applications may be hand delivered, mailed or submitted by courier service. If mailed by the United States Postal Service, the original and four copies must be postmarked on or before midnight of July 22, 2004, and received in the local HUD office within 15 days of the due date. If hand delivered or submitted by courier service, the original and four copies must be received by the appropriate office on the application due date in accordance with the Delivery and Receipt procedures contained in section IV.F.1 of the General Section. Please refer to the General Section of the SuperNOFA for further instructions regarding the time deadline for receipt of applications that are hand carried or submitted by courier service as well as other application mailing and receipt procedures.

On page 27788, second column, section V.A.3. entitled, “Rating Factor 3: Soundness of Approach (40 Points),” the introductory paragraph is corrected to read as follows:

3. Rating Factor 3: Soundness of Approach (40 Points)

This factor addresses the quality and effectiveness of your proposal, the extent to which you involved persons with disabilities, including minority persons with disabilities, in the development of the application and will involve them in the development and operation of the project, the extent to which you coordinated your application with other organizations, including local independent living centers, with which you share common goals and objectives and are working toward meeting these objectives in a holistic and comprehensive manner, whether you consulted with Continuum of Care organizations to address efforts to assist persons with disabilities who are chronically homeless as defined in the General Section of the SuperNOFA, and whether the jurisdiction in which your project will be located has undertaken successful efforts to remove regulatory barriers to affordable housing. There must be a clear relationship between the proposed design, the proposed activities, the community's needs and purposes of the program funding for your application to receive points for this factor. Submit information responding to this factor in accordance with Application Submission Requirements in Exhibits 2(d), 3(f), 3(j), 3(k), 3(l), 4(c)(i), 4(d)(iii), 4(d)(v), 4(d)(vi), 4(e)(i) and 5 of Section IV.B. of this program section of the SuperNOFA. In evaluating this factor, HUD will consider the following:

On page 27789, first paragraph, section V.A.3.j., is corrected to read as follows:

(j) (2 points). The jurisdiction in which your project will be located has undertaken successful efforts to remove regulatory barriers to affordable housing.

Dated: June 17, 2004.
Vickers B. Meadows,
Assistant Secretary for Administration/Chief Information Officer.

[FR Doc. 04-14131 Filed 6-21-04; 8:45 am]

BILLING CODE 4210-32-P